DEPARTMENT OF HEALTH AND HUMAN SERVICES

Centers for Disease Control and Prevention

[60Day-13-13AHL]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-7570 or send comments to Leroy Richardson, 1600 Clifton Road, MS D-74, Atlanta, GA 30333 or send an email to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents ,including through the use of automated collection techniques or other forms of information technology. Written comments should be received within 60 days of this notice.

Proposed Project

Colorectal Cancer Screening Survey—New—National Center for Chronic Disease Prevention and Health Promotion (NCCDPHP), Centers for Disease Control and Prevention (CDC).

Background and Brief Description

Unhealthy behaviors contribute to a significant public health gap in terms of eliminating preventable deaths. This gap disproportionately affects low-income, minority, uninsured or under-insured populations and stems in part from a failure to receive basic clinical preventative services such as cancer screening, as well as risk factors such as obesity, physical inactivity, excessive alcohol consumption and tobacco use. The challenge for public health is to identify the social interventions or mechanisms that might be effective in reaching members of the public who do not respond to traditional public health messages and interventions designed to support healthy behaviors. An improved understanding of the determinants of individual decision-making and behavior is needed to identify opportunities for strengthening public health interventions.

The Centers for Disease Control (CDC) plans to conduct a study to improve understanding of the reasons that individuals do not get screened for colorectal cancer (CRC). CRC is the second leading cause of cancer related death in the U.S., and screening for CRC is recommended for adults starting at age 50. Screening for CRC can prevent deaths by removing pre-cancerous polyps and finding cancer early when it is most treatable. However, as of 2008, only 62.9% of adults aged 50-75 years were screened as recommended.

CDC will request OMB approval to administer a survey to collect information on actual screening behavior, subjective and objective colon cancer risk perceptions, and barriers to screening. The survey is also designed to measure preferences for different characteristics of CRC screening tests. Information collection will involve a Web-based survey based on a conjoint analysis approach (also known as discrete choice experiment). The conjoint format presents respondents with choices between hypothetical CRC tests that vary along key attributes. The six attributes that will be assessed for CRC screening tests are: (1) What the test can find, (2) whether the test can remove cancer and polyps, (3) preparation before the test, (4) discomfort and activity limitations during and after the test, (5) how often an individual can take the test, and 6) cost of the test. Results will be analyzed to quantify the rate at which respondents are willing to trade-off one attribute for another and to rank the importance of attributes and changes in attribute levels.

The survey will also collect information to measure the impact of selected educational materials on opinions about CRC screening tests. Each respondent will be randomly assigned to one of three information treatments: (1) A control group that receives no additional information about CRC screening, (2) a treatment group that receives a “No Excuses” educational flyer designed to dispel many common reasons for not getting a colonoscopy, or (3) a treatment group that receives a two-page Fact Sheet about CRC and screening options. The flyer and fact sheet were developed in conjunction with CDC's Screen for Life program.

Information will be collected from a sample of 2,000 adults aged 52-75 through a Web-based survey administered by GfK Knowledge Networks (KN). The estimated burden per response is 20 minutes. Respondents will be randomly selected from the KN KnowledgePanel®. A pre-test of study procedures will be conducted prior to initiating the main study.

CDC is authorized to conduct this information collection under the Public Health Service Act (42 U.S.C. 241) Section 301. Results will be used to help CDC better understand public perceptions of screening tests and to improve rates of CRC screening among individuals at risk.

OMB approval is requested for one year. Participation is voluntary and there are no costs to respondents other than their time.

Estimated Annualized Burden Hours
Type of respondents | Form name | Number of respondents | Number of responses per respondent | Average burden per response (in hr) | Total burden (in hr)
Pre-Test Participants | Email Invitation | 43 | 1 | 2/60 | 1
| Survey of Preferences for Colorectal Cancer Screening | 30 |  | 20/60 | 10
Study Participants | Email Invitation | 2,680 | 1 | 2/60 | 89
| Survey of Preferences for Colorectal Cancer Screening | 2,000 | 1 | 20/60 | 667
Total |  |  |  |  | 767

Leroy A. Richardson,
Chief, Information Collection Review Office, Office of Scientific Integrity, Office of the Associate Director for Science, Office of the Director, Centers for Disease Control and Prevention.

[FR Doc. 2013-21604 Filed 9-4-13; 8:45 am]

BILLING CODE 4163-18-P